NUCLEAR REGULATORY COMMISSION

Advisory Committee on Reactor Safeguards; Revised Meeting Notice

The Agenda for the 587th ACRS meeting, scheduled to be held on October 6-8, 2011, has been revised as noted below. Notice of this meeting was previously published in the Federal Register on September 26, 2011 (76 FR 59449-59450).

The discussion on the Development of Draft Fire Human Reliability Analysis (HRA) Guidelines—NUREG-1921 scheduled to be held on Friday, October 7, 2011 between 10:15 a.m. and 11:45 a.m. is being postponed to a future meeting. The Preparation of ACRS Reports will now start at 10:15 a.m. on Friday, October 7, 2011.

A revised agenda is posted on the NRC Web site at http://www.nrc.gov/reading-rm/adams.html or http://www.nrc.gov/reading-rm/doc-collections/ACRS/.

Further information regarding this meeting can be obtained by contacting Ms. Ilka Berrios of the ACRS staff (Telephone: 301-415-3179, E-mail: Ilka.Berrio@nrc.gov).

Dated: September 27, 2011.
Andrew L. Bates,
Advisory Committee Management Officer.

[FR Doc. 2011-25387 Filed 9-30-11; 8:45 am]

BILLING CODE 7590-01-P